DEPARTMENT OF ENERGY

Federal Energy Regulatory Commission

[Docket No. RP00-540-000]

East Tennessee Natural Gas Company; Notice of Proposed Changes in FERC Gas Tariff

September 19, 2000.

Take notice that on September 13, 2000, East Tennessee Natural Gas Company (East Tennessee) tendered for filing as part of its FERC Gas Tariff, Second Revised Volume No. 1, the following tariff sheets to be effective October 14, 2000:

Third Revised Sheet No. 170

First Revised Sheet No. 171

East Tennessee states that the purpose of this filing is to provide for a non-discriminatory waiver of the tariff provision which requires reimbursement for shipper-requested expansion facilities based upon an economic evaluation of the impact of the new facilities. East Tennessee states that waiver of the facility cost reimbursement requirement will be evaluated on the basis of various economic criteria, including estimated throughput, cost of the facilities, operating and maintenance as well as administrative and general expenses attributable to the facilities, system net revenues estimated to be generated and the availability of capital funds. East Tennessee states that it is proposing this tariff change in response to customer requests and to assist East Tennessee in the remarketing of turnback capacity.

East Tennessee states that copies of its filing have been mailed to all affected customers and interested state commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-24523 Filed 9-22-00; 8:45 am]

BILLING CODE 6717-01-M